COMMITTEE FOR PURCHASE FROM PEOPLE WHO ARE BLIND OR SEVERELY DISABLED

Procurement List Proposed Additions and Deletion

AGENCY: Committee for Purchase From People Who Are Blind or Severely Disabled.

ACTION: Proposed Additions to and Deletion From the Procurement List.

SUMMARY: The Committee is proposing to add to the Procurement List products to be furnished by nonprofit agencies employing persons who are blind or have other severe disabilities, and to delete a service previously furnished by such agency.

COMMENTS MUST BE RECEIVED ON OR BEFORE: 6/28/2010.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to furnish the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List to be furnished by the nonprofit agencies listed:

Products

NSN: 7530-01-285-8355—Padded, yellow, 4 x 6” unruled self stick notes.

NSN: 7530-01-385-7560—Padded, bright, 1-1/2 x 2” self stick notes.

NPA: Association for the Blind & Visually Impaired & Goodwill Ind. of Greater Rochester, Rochester, NY.

Contracting Activity: Federal Acquisition Service, GSA/FSS OFC SUP CTR—Paper Products, New York, NY.

Coverage: A-List for the Total Government Requirement as aggregated by the GSA/FSS OFC SUP CTR—Paper Products.

Peel N Stick Kit

NSN: 7220-01-579-6870.

NSN: 7220-01-579-6875.

NSN: 7220-01-579-6876.

NSN: 7220-01-579-6877.

NSN: 7220-01-579-6880.

NPA: Louisiana Association for the Blind, Shreveport, LA.

Contracting Activity: Federal Acquisition Service, GSA/FSS Household and Industrial Furniture, Arlington, VA.

Coverage: B-List for the Broad Government Requirement as aggregated by the GSA/FSS Household and Industrial Furniture.

Pen, Ballpoint, Retractable

NSN: 7520-00-NIB-2091—3/PG, 1.0 mm medium point, blue ink.

NSN: 7520-00-NIB-2092—3/PG, 1.0 mm medium point, black ink.

NSN: 7520-00-NIB-2093—3/PG, 0.7 mm fine point, blue ink.

NSN: 7520-00-NIB-2094—3/PG, 0.7 mm fine point, black ink.

NSN: 7520-00-NIB-2097—6/PG, 1.0 mm medium point, black ink.

NSN: 7520-00-NIB-2098—6/PG, 1.0 mm medium point, blue ink.

Coverage: A-List for the Total Government Requirement as aggregated by the GSA/FSS OFC SUP CTR—PAPER PRODUCTS.

NSN: 7520-00-NIB-2099—6/PG, 1.0 mm medium point, asst. color ink—2 ea of 3 colors.

Coverage: B-List for the Broad Government Requirement as aggregated by the GSA/FSS OFC SUP CTR—Paper Products.

NPA: Industries for the Blind, Inc., West Allis, WI.

Contracting Activity: Federal Acquisition Service, GSA/FSS OFC SUP CTR—Paper Products, New York, NY.

Deletion

Regulatory Flexibility Act Certification

I certify that the following action will not have a significant impact on a substantial number of small entities. The major factors considered for this certification were:

1. If approved, the action will not result in additional reporting, recordkeeping or other compliance requirements for small entities.

2. If approved, the action may result in authorizing small entities to provide a service to the Government.

3. There are no known regulatory alternatives which would accomplish the objectives of the Javits-Wagner-O'Day Act (41 U.S.C. 46-48c) in connection with a service proposed for deletion from the Procurement List.

End of Certification

The following service is proposed for deletion from the Procurement List:

Service

Service Type/Location: Food Service Attendant, Brunswick Naval Air Station: Building 201, New Brunswick, ME.

NPA: Pathways, Inc., Auburn, ME.

Contracting Activity: Dept. of the Navy, U.S. Fleet Forces Command, Norfolk, VA.

Barry S. Lineback,
Director, Business Operations.

[FR Doc. 2010-12898 Filed 5-27-10; 8:45 am]

BILLING CODE 6353-01-P